DEPARTMENT OF COMMERCE

Economic Development Administration

[Docket No. 991215339-3117-07]

RIN 0610-ZA14

National Technical Assistance, Training, Research, and Evaluation: University Research Parks, Technology-Led Economic Development Strategies, and Information Dissemination—Request for Proposals

AGENCY: Economic Development Administration (EDA), Department of Commerce (DoC).

ACTION: Request for Grant Proposals (RFP) upon availability of funds.

SUMMARY: The role of government is to create conditions in which jobs are created, and in which people can find work. EDA is soliciting proposals (1) to measure the economic impact of university research parks in the United States, (2) to provide technical assistance to practitioners to accelerate transition to technology-led economic development strategies, and (3) to disseminate information to economic development practitioners serving distressed communities that will help our partners across the nation (States, regions and communities) create wealth and minimize poverty by promoting a favorable business environment to attract private capital investment and high skill, high wage jobs through world-class capacity building, infrastructure, business assistance, research grants and strategic initiatives. EDA will fulfill this mission by promoting progressive domestic business policies and growth, and by assisting States, communities, and individuals to achieve their highest economic potential.

DATES: Prospective applicants are advised that EDA will conduct a pre-proposal conference on June 12, 2003, at 2 p.m. e.d.t. in the Department of Commerce, Herbert C. Hoover Building, 1401 Constitution Avenue, NW., Washington, DC 20230, Room 1412, at which time questions regarding these projects can be answered. Prospective applicants unable to attend this pre-proposal conference may participate by teleconference. Teleconference information may be obtained by calling (202) 482-4085 between 8:30 a.m.-4:30 p.m. e.d.t. on June 11, 2003.

Proposals for funding under this program will be accepted through June 30, 2003, at either of the addresses provided below. Proposals received after 4 p.m. e.d.t., on June 30, 2003, will not be considered for funding.

By July 15, 2003, EDA will notify proposers whether they will be given further funding consideration. Each successful proponent will be invited to submit an Application for Federal Assistance, OMB Control Number 0610-0094. Projects will be funded no later than September 30, 2003.

ADDRESSES: 1. Proposals may be e-mailed to jmcnamee@eda.doc.gov, or

2. Proposals may be hand-delivered to: John J. McNamee, Director, Research and National Technical Assistance Division, Economic Development Administration, Room 1874, U.S. Department of Commerce, 1401 Constitution Avenue, NW., Washington, DC 20230, or

3. Proposals may be mailed to: John J. McNamee, Director, Research and National Technical Assistance Division, Economic Development Administration, Room 7019, U.S. Department of Commerce, 1401 Constitution Avenue, NW., Washington, DC 20230.

Proponents are encouraged to submit proposals by e-mail. Proponents are advised that, due to mail security measures, receipt of U.S.P.S. mail may be delayed for up to two weeks. EDA will not accept proposals submitted by FAX.

FOR FURTHER INFORMATION CONTACT: John J. McNamee (202) 482-4085; e-mail: jmcnamee@eda.doc.gov.

SUPPLEMENTARY INFORMATION: In a previous notice published on April 9, 2003 (68 FR 17520), EDA stated that it would publish a separate announcement for certain National Technical Assistance, Research, and Evaluation projects. Pursuant to that notice, EDA publishes program requirements and solicits applications for those programs.

I. Funding Availability

Funding appropriated under Public Law 108-07 is available for the National Technical Assistance, Training, Research, and Evaluation program authorized by the Public Works and Economic Development Act of 1965, as amended (Pub. L. 89-136, 42 U.S.C. 3121, et seq.) and as further amended by the Economic Development Administration Reform Act of 1998 (Pub. L. 105-393). Funds in the amount of $1,590,093 have been appropriated for these programs for FY 2003 and shall remain available until expended. Awards will be in the form of grants or cooperative agreements. In funding cooperative agreements, a common example of substantial involvement is collaboration between EDA program staff and the recipient of an information dissemination award to select topics and presenters for satellite telecasts and regional policy forums, or reviewing a research project's methodology at critical stages as well as reviewing the draft written report. The average funding level in FY 2002 for National Technical Assistance investments was $134,000, and for Research and Evaluation investments was $105,000. EDA anticipates using only a portion of the available funding for the three RFPs described below.

II. Authority

The authority for the programs listed above is the Public Works and Economic Development Act of 1965, as amended (Pub. L. 89-136, 42 U.S.C. 3121 et seq.), and as further amended by Pub.L. 105-393.

III. Eligibility

Eligible recipients of EDA financial assistance are defined at 13 CFR 300.2 and eligible applicants are specified at 13 CFR 301.1. An “area” is an eligible recipient and is defined at 13 CFR 301.2. One category of the areas eligible for financial assistance are those areas meeting the “special needs” criteria. The special needs criteria are published in part XV of the Federal Register notice of April 9, 2003 (68 FR 17524).

IV. Proposal Format

Each proposal submitted must include:

1. A description of how the researcher(s) intend(s) to carry out the scope of work (not to exceed 10 pages in length);

2. A proposed budget and accompanying explanation;

3. Resumes/qualifications of key staff (not to exceed two pages per individual, with an additional two pages allowed for a single summary description of all organizations/consultants named in the proposal); and

4. A proposed schedule for completion of the project.

V. Evaluation and Selection Process

To apply for an award under this request, an eligible recipient must submit a proposal to EDA during the specified timeframe, at one of the addresses specified above. Proposals that do not meet all items required or that exceed the page limitations of section IV of this RFP, will be considered nonresponsive, and will not be considered. Proposals that meet all the requirements will be evaluated by a review panel comprised of at least three members all of whom will be full-time Federal employees. The panel first evaluates the proposals using the general evaluation criteria set forth in 13 CFR 304.1 and 304.2 and the supplemental evaluation criteria set out in part VI of the previous notice published on April 9, 2003 (68 FR 17520). Proposals that meet these threshold criteria will then be evaluated by the panel using the following criteria of approximate equal weight:

(1) The quality of a proposal's response to the Scope of Work and other requirements described in section VI below;

(2) The ability of the prospective applicant to successfully carry out the proposed activities; and

(3) Cost to the Federal government.

For the information dissemination proposal, the panel will also apply the following two criteria:

(1) How the proposal demonstrates partnership, particularly at the national level, between various economic development organizations, and

(2) The amount of the non-Federal share.

The Assistant Secretary for Economic Development is the Selecting Official. He may not make any selection, or he may substitute one of the lower rated proposals, if he determines that it better meets the overall objectives of the Public Works and Economic Development Act of 1965, as amended (Pub. L. 89-136, 42 U.S.C. 3121 et seq.), and as further amended by Pub. L. 105-393.

If a proposal is selected, EDA will provide the proponent with an Application for Federal Assistance (OMB Control Number 0610-0094).

VI. Areas of Special Interest

EDA is inviting proposals for National Technical Assistance, Training, Research, and Evaluation as described below.

A. Program: Research and Evaluation—(Pub. L. 89-136, as Amended by Pub. L. 105-393, 42 U.S.C. 3147)

(Catalog of Federal Domestic Assistance: 11.312 Research and Evaluation)

I: Measuring the Economic Impact of University Research Parks in the United States

EDA invites proposals to examine the impact of university research parks in creating jobs and growing regional economies.

Background: University research parks aim to create clusters of knowledge-based companies in close proximity to centers of research excellence. They are fast becoming engines of economic development in their communities. An increasing amount of applied research and development work is taking place at universities, many of which cultivate an environment of innovation and entrepreneurship that develops and promotes commercial partnerships, creating higher skill and higher wage jobs. Commercialization efforts take time and require patience. For those who fund research parks, determining the extent and precise nature of their contribution to economic development is important. Research parks must demonstrate the benefits of what they are doing.

Scope of Work: The successful applicant will:

1. Demonstrate familiarity with existing research on U.S. university research parks and any gaps that remain in the research;

2. Survey university research parks to identify diverse settings, including those that contribute to distressed area economic development;

3. Develop a methodology to identify and measure the impact of university research parks, including such measures as diversification of the regional economy, the numbers and kinds of jobs created, the private sector investments leveraged, the length of time to achieve significant impact, and how they contribute to the economic health of distressed areas;

4. Identify effective university research parks and analyze common and unique areas where they have contributed to local economic development;

5. Select a number of case studies for detailed review and analysis;

6. Provide 500 hard copies and an electronic version of a final report setting forth the evaluation methodology, results, and related recommendations; and

7. Conduct up to seven presentations of the study findings, as described in section VII.B.

Timing: This project must be completed and the final report submitted within one year of approval of the project.

II: Providing Technical Assistance to Practitioners To Accelerate Transition to Technology-Led Economic Development Strategies

EDA invites proposals to prepare a set of guides to assist economic development practitioners in their efforts to accelerate regional transition to technology-led economies.

Background: “There are no low-tech industries, only low-tech firms.” (Professor Michael E. Porter, Institute for Strategy and Competitiveness, Harvard Business School). Regardless of the type of local and regional clusters, innovation through higher technological advancements results in increased productivity which leads to increased wealth. Economies that capitalize on innovation will prosper.

States and localities have been involved in technology-led economic development for a long time. Much of what has been learned from successful efforts remains largely word of mouth. Increasing communication and cooperation among practitioners will result in greater effectiveness and maximum impact. Preparing a set of guides that captures what has been learned from successful efforts would increase communication and cooperation among practitioners and the private sector to determine rules of the trade, measures of effectiveness, and techniques for maximizing impact. More detailed and useful than simple reports on best practices, each guide would focus on a specific element of developing technology-led strategies to help transform local and regional economies. Innovation in all industries through the development, adoption, and creative application of technology contributes significantly to economic growth. At the same time, competitors across the globe have relatively equal access to new technologies. Regions and localities must adopt technology-led strategies to become and remain competitive globally. EDA's intent is to capture and share the expertise and experience that will help America's distressed communities develop a competitive edge globally.

Scope of Work: The successful applicant will:

1. Have an extensive knowledge of and experience in technology-led economic development;

2. Be familiar with the issues and the best approaches to building technology-led economies;

3. Identify a small number of key elements that are critical to building a technology-based economy;

4. Prepare a set of guides that focus on specific elements through which economic development practitioners in distressed areas can tap into the wealth of experience and expertise of other practitioners in building a technology-based economy;

5. Provide 500 hard copies and electronic versions of each guide; and

6. Conduct up to seven presentations about the results of the research, as described in section VII.B.

Timing: This project must be completed within one year of approval of the project.

B. Program: National Technical Assistance—(Pub. L. 89-136, as Amended by Pub. L. 105-393, 42 U.S.C. 3147)

(Catalog of Federal Domestic Assistance: 11.303 Economic Development Technical Assistance)

I: Information Dissemination to Practitioners Serving Distressed Areas

Background: As part of its ongoing mission to assist economically distressed areas, EDA supports the dissemination of information to economic development practitioners serving distressed communities. EDA is soliciting proposals to fund a project that will continue its mission of serving the economic development needs of distressed rural and urban areas, takes greater advantage of new technologies for information dissemination (including the Internet, videoconferencing, e-mail, etc.), and identifies and provides information, in new or emerging areas of economic development, needed by practitioners.

EDA anticipates funding a project that will include a variety of media, as set forth in the proposed scope of work below. Since it is unlikely that a single organization will have the capacity to implement all aspects of the scope of work, EDA encourages economic development organizations to partner with each other. Doing so would also increase the likelihood that an applicant team would reach a greater segment of the target audience. EDA's intent is to implement a coordinated and complementary information dissemination program that, through strategic linkages, reaches the maximum number of economic development practitioners.

Scope of Work: The successful applicant will:

1. Conduct four satellite economic development strategy telecasts targeted to practitioners nationwide. This includes selecting the topics, presenters or panelists, and case studies for each broadcast, subject to EDA's concurrence; arranging for the moderator and facilities to conduct each telecast; undertaking sufficient publicity that ensures the maximum audience is reached; ensuring that sufficient local download facilities are available; and building in a feedback mechanism that measures both the level of participation in and the effectiveness of the broadcasts. Each telecast must be recorded digitally so that it can be made available broadly, including on EDA's and other Web sites.

2. Conduct 20 regional economic development policy forums at various locations across the country. Each will be approximately two hours in length, and they will take place in distressed areas of the country that ordinarily are less served because of their locations away from major metropolitan areas. They will take place at times and locations agreed to by EDA. Conducting each forum will include selecting the topics and presenters or panelists, subject to EDA's concurrence; arranging for the facilities; undertaking sufficient publicity to ensure the maximum audience is reached; providing a written summary of key issues that emerge at each location; and building in a feedback mechanism that measures both the level of participation in and effectiveness of each forum.

3. Prepare and disseminate a monthly electronic newsletter with information targeted to a national audience of economic development practitioners. The newsletter must be in hypertext markup language (html), in an attractive and colorful format, but also be available as a plain text document for those who cannot access it in html. It will ordinarily be no more than two pages in length, cover three or four topics each month, and include summaries of critical information, subject to EDA's concurrence. Where appropriate, it will serve as a roadmap to other information resources through hot links that facilitate direct access to more in-depth information. It will be distributed at no cost to organizations and individuals working to improve the economic viability of distressed areas. The dissemination effort includes developing an inclusive e-mailing list, which will be made available to EDA. The e-mailing list may involve supplementing and/or combining existing lists that economic development organizations currently possess, to achieve maximum target audience penetration as quickly as possible.

4. Prepare a quarterly magazine of approximately 20-40 pages that will provide in-depth information to practitioners in four-color, high-quality format, on a range of timely topics consistent with EDA's mission, and subject to EDA's concurrence. It will cover subjects such as current administration policy, interviews with key decision-makers and practitioners, and present and analyze best practice case studies in economic development. EDA expects that this magazine will be mailed in hard copy to up to 4,000, depending on costs. In addition to the hard copy, an html counterpart will be made available for EDA's Web site.

5. EDA encourages the applicant to propose an innovative information dissemination effort that is likely to improve the quality, accessibility, and timeliness of critical information available to economic development practitioners. It must be consistent with EDA's mission of assistance to distressed communities that creates higher-skill, higher-wage jobs, and subject to EDA's concurrence.

Timing: All elements of the Scope of Work will take place between October 1, 2003, and September 30, 2004, but each has its own specific time line. The telecasts in Element (1) and the policy forums in Element (2) will take place at intervals during the year determined in conjunction with EDA. The electronic newsletter in Element (3) will be disseminated each month. The Element (5) time line should be consistent with the nature of the effort.

VII. Other Information and Requirements

EDA regulations at 13 CFR Chapter III are available on the EDA Web site www.doc.gov/eda. The Department of Commerce Pre-Award Notification Requirements for Grants and Cooperative Agreements contained in the Federal Register notice of October 1, 2001 (66 FR 49917), as amended by the Federal Register notice published on October 30, 2002 (67 FR 66109), are applicable to this solicitation and can be found on EDA's Web site www.doc.gov/eda. Certain Departmental and other requirements are noted below:

A. Projects are expected to be completed in a timely manner consistent with the nature of the project. The completion date for each project is specified in the RFP.

B. Two awards include a requirement that the successful applicant(s) conduct briefings and/or training workshops for individuals and organizations interested in the project results. The completion dates set forth above are only for completion of the project and submission of the written report. Briefings/workshops will take place no later than one year after submission of the final report. Locations and dates of the briefings/workshops are at EDA's sole discretion. Usually these consist of at least one briefing in Washington, DC, with the other briefings/workshops held in conjunction with one or more of EDA's regional conferences.

C. Ordinarily, the applicant is expected to provide a 50 percent non-Federal share of project costs. However, EDA may reduce or waive the required 50 percent matching share of the total project costs, provided the applicant demonstrates the project is not feasible without a reduction or waiver and the project merits a reduction or waiver.

D. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094. The EDA application (ED-900A), which incorporates the SF-424, are the forms in the EDA application kit, approved under the aforementioned OMB control number.

E. If an application is selected for funding, EDA has no obligation to provide any additional future funding in connection with an award. Renewal of an award to increase funding or extend the period of performance is at the sole discretion of EDA.

F. EDA is committed to a policy of non-discrimination in the administration of all its programs.

G. EDA will notify unsuccessful proposers in writing and unsuccessful proposals will be maintained for not more than three years from the date of receipt.

H. The rulemaking requirements of 5 U.S.C. 553 are not applicable to this notice relating to public property, loans, grants, benefits or contracts (5 U.S.C. 553(a)(2)). Because notice and comment are not required under 5 U.S.C. 553, or any other law for this rule, the analytical requirements of the Regulatory Flexibility Act (5 U.S.C. 601) are not applicable. Thus, a Regulatory Flexibility Analysis is not required and has not been prepared for this rule.

I. It has been determined that this notice does not contain policies with Federalism implications as that term is defined in Executive Order 13132.

J. See EDA's Notice of Funding Availability for FY 2003 of April 9, 2003 (68 FR 17520), for additional information and requirements (available on the Internet at http://www.doc.gov/eda, under the heading “Notice of Funding Availability”).

Dated: May 20, 2003.
David A. Sampson,
Assistant Secretary for Economic Development.

[FR Doc. 03-13025 Filed 5-22-03; 8:45 am]

BILLING CODE 3510-24-P